DEPARTMENT OF TRANSPORTATION

Federal Aviation Administration

14 CFR Part 39

[Docket No. FAA-2006-23633; Directorate Identifier 2005-NM-242-AD; Amendment 39-14801; AD 2006-22-04]

RIN 2120-AA64

Airworthiness Directives; Airbus Model A318-100 and A319-100 Series Airplanes; Model A320-111 Airplanes; Model A320-200, A321-200, A330-200, A330-300, A340-200, and A340-300 Series Airplanes; Model A340-541 Airplanes; and Model A340-642 Airplanes; Equipped With Certain Sogerma-Services Powered Seats

AGENCY: Federal Aviation Administration (FAA), Department of Transportation (DOT).

ACTION: Final rule.

SUMMARY: The FAA is adopting a new airworthiness directive (AD) for certain Airbus airplane models identified above. This AD requires inspecting to determine if a certain actuator is installed in the pilot's or co-pilot's seat, and doing applicable corrective actions. For certain actuators, the AD also requires replacing rotors on both vertical and horizontal movements with new rotors, and replacing the clutch cap with a new cap. This AD results from a report of heavy wear at the driving gear of the rotor shaft end of the electrical driven motor on certain actuators of the pilot's and co-pilot's seats. We are issuing this AD to prevent uncommanded movement of the pilot's or co-pilot's seat during takeoff or landing, which could result in interference with the operation of the airplane and consequent temporary loss of airplane control.

DATES: This AD becomes effective December 4, 2006.

The Director of the Federal Register approved the incorporation by reference of certain publications listed in the AD as of December 4, 2006.

ADDRESSES: You may examine the AD docket on the Internet at http://dms.dot.gov or in person at the Docket Management Facility, U.S. Department of Transportation, 400 Seventh Street, SW., Nassif Building, Room PL-401, Washington, DC.

Contact Sogerma-Services, Z.I. de l'Arsenal—BP 109, 17303 Rochefort Cedex, France; and Messier-Bugatti, 45 Avenue Victor Hugo—Bat. 227, 93538 Aubervilliers, France; for service information identified in this AD.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A318-100 and A319-100 series airplanes; Model A320-111 airplanes; Model A320-200, A321-200, A330-200, A330-300, A340-200, and A340-300 series airplanes; Model A340-541 airplanes; and Model A340-642 airplanes; equipped with certain Sogerma-Services powered seats. That NPRM was published in the Federal Register on January 19, 2006 (71 FR 3021). That NPRM proposed to require inspecting to determine if a certain actuator is installed in the pilot's or co-pilot's seat, and doing applicable corrective actions. For certain actuators, that NPRM also proposed to require replacing rotors on both vertical and horizontal movements with new rotors, and replacing the clutch cap with a new cap.

Comments

We provided the public the opportunity to participate in the development of this AD. We have considered the comments received.

Support for the NPRM

Airbus supports the contents of the NPRM. Northwest Airlines supports the intent of the NPRM.

Request To Extend Compliance Time Based on Parts Availability

United Airlines states that the actuator supplier has a limited quantity of spare actuators. United estimates that it would require a six-month window between the AD release date and the AD effective date to permit sufficient time to rotate its spares through the shop for AD rework. United requests that we select an AD effective date that is at least six to eight months after the AD release date to provide sufficient lead time for the industry to rotate the spare actuators and seats. The Air Transport Association (ATA), on behalf of USAirways, also states that its members have spoken to the seat manufacturer and raised concerns that there might be part shortages. ATA states that the issue of parts availability needs to be addressed before the AD is released.

We infer that the commenters request that we extend the compliance time in paragraph (h) of the NPRM or that we remove that paragraph from the final rule. Regarding parts shortages, we have confirmed with Airbus and EADS Sogerma that the necessary parts are available well within the time necessary to replace the actuators. We have not changed the final rule in this regard.

Request To Extend Compliance Time To Match Heavy Maintenance Schedule

ATA, on behalf of USAirways, requests that the compliance time be extended from 56 months to 72 months. This extension would allow USAirways to accomplish the AD requirements during heavy maintenance.

We do not agree with the request to extend the compliance time based on an operator's heavy maintenance schedule. We have determined that the compliance time, as proposed, represents the maximum interval of time allowable for the affected airplanes to continue to safely operate before the inspection is done. Since maintenance schedules vary among operators, there would be no assurance that the airplane would be inspected during that maximum interval. We have not changed the final rule in this regard. However, operators may request approval of an alternative method of compliance in accordance with the procedures specified in paragraph (i) of this AD.

Request To Reduce Compliance Time

The Airline Pilot's Association (ALPA) recommends that the compliance time for the actuator/component replacement should be no greater than 50 percent of the component time-in-service that would result in the noted unsafe wear condition. ALPA states that if the compliance time meets this criterion, then the NPRM, as written, is satisfactory; if not, the proposed compliance time should be reduced accordingly.

We disagree with the need to reduce the compliance time based on the stated criterion. In developing the compliance time for this AD, we considered not only the safety implications of the identified unsafe condition, but the average utilization rate of the affected fleet, the practical aspects of doing the required actions during regular maintenance periods, the availability of required parts, and the time necessary for the rulemaking process. We find that the compliance time, as proposed in the NPRM, provides an acceptable level of safety. We have not changed the final rule in this regard.

Request To Remove Requirement To Replace Rotors and Clutch Cap

JetBlue Airways states that the NPRM refers to a work scope that includes replacing vertical and horizontal rotors and replacing the clutch cap. JetBlue points out that Sogerma-Services Service Bulletin TAAI1-25-617, dated February 1, 2005, refers to replacing only the affected motor/actuator as a unit for the vertical direction and marks the seat data plate. (Sogerma-Services Service Bulletin TAAI1-25-617 was referenced in the NPRM as an appropriate source of service information for accomplishing certain actions). JetBlue states that a flow chart on page 4 of the service bulletin provides a more accurate and easier-to-understand work scope for operators to implement.

We agree. Paragraph (f) of the NPRM refers to Part 3., “OPERATING INSTRUCTIONS,” of Sogerma-Services Service Bulletin TAAI1-25-617 for instructions regarding replacing the vertical and horizontal rotors and replacing the clutch cap. As JetBlue points out, the flow chart on page 4 of Sogerma-Services Service Bulletin TAAI1-25-617 provides an accurate and easy-to-understand work scope for operators to implement. Therefore, we have changed paragraph (f) of the AD to refer to the flow chart in Part 1, paragraph D., “DESCRIPTION,” of the service bulletin.

Request To Reference Service Information Letter (SIL)

Sogerma/Barfield states that the correct service information for inspecting the seats is not Sogerma-Services Service Bulletin TAAI1-25-617, dated February 1, 2005, as specified in the NPRM, but Sogerma-Services SIL, SIL-TAAI1-25-059, dated February 8, 2005.

We clarify that, for airplanes on which the part number and serial number are not visible on the seat base, Sogerma-Services SIL SIL-TAAI1-25-059 provides service information for inspecting the seats to determine their identity. In addition, Airbus Operator Information Telex (OIT) SE 999.0040/05/FB, dated May 27, 2005, also provides service information for inspecting the seats. Therefore, we have added Note 1 to the AD to identify these two documents as additional sources of service information for doing the inspection required by paragraph (f) of the AD.

Requests To Reference Serial Numbers (S/Ns) for Replacement, and To Clarify Table 2 and Paragraph (h) of the AD

Sogerma/Barfield points out that paragraph (f) of the NPRM specifies replacing all actuators listed in Table 2 of the NPRM. Sogerma/Barfield requests we change that paragraph to specify that only Labinal actuators with the part number (P/N) identified in Table 2 of the NPRM must be replaced, that all actuators having P/N 4136290005 must be replaced, and that P/N 4136290004 must be replaced only if the serial number of the part is lower than 5079. Sogerma/Barfield states that Aviac and Artus actuators are not affected.

JetBlue confirms Sogerma/Barfield's statements about Table 2 and points out that the statement regarding the installation of spare parts in paragraph (h) of the NPRM is also incorrect because it references Table 2. JetBlue states that the incorrect information in Table 2 could mislead inspectors and operators into replacing actuators that are not affected and are not potentially defective.

United also requests that we clarify paragraph (h) of the NPRM to specify that only Labinal actuators are affected, and that the Aviac or Artus actuators can still be installed provided the seat amendment label is installed.

We agree with revising the P/N and S/N references for the Labinal actuators, as well as with the fact that Aviac and Artus actuators are not affected by the required actions. Airbus has confirmed that these requested changes are correct. In addition, French airworthiness directive F-2005-164, issued September 28, 2005, which is the parallel airworthiness directive for this AD, states that actuators having P/Ns 4136290004 and 4136290005 with S/Ns below 5080 must be removed from service. All P/N 4136290005 S/Ns are currently in the below-5080 range.

We have revised table 2 and paragraph (f) of the AD to change the part number references. In addition, we have removed paragraph (h) of the NPRM from this final rule because we agree that it could be misleading.

Request To Add Procedure for Identifying Actuator Installed on the Seats

United points out that the NPRM requires identifying the actuator installed on the seats in accordance with part 1, paragraph A., “EFFECTIVITY,” pages 2 and 3, of Sogerma-Services Service Bulletin TAAI1-25-617. United believes that the Labinal actuator cannot be identified only by checking for the label on the seat at the location specified in the service bulletin. United points out that the actuator may have been replaced with other affected part numbers many times since the seat was originally delivered, and the actuator identification label might not be on the seat. United quotes a note in the service bulletin, paragraph A., which states, “Seats equipped with ARTUS actuators, have not actuator identification label.” United suggests adding the following procedure to the service bulletin: “In order to accurately identify the actuator installed in the seat, open the seat back shroud to view the identification nameplate on the actuator.”

We disagree with the need to add the specified words to the final rule. As noted under “Requests to Reference Serial Numbers for Replacement, and to Clarify Table 2 and Paragraph (h) of the AD,” above, we have revised the AD to remove reference to the Artus actuators. In addition, the airplane manufacturer states that each time a new actuator is shipped to a repair center or maintenance center, a placard with relevant information about the actuator is delivered that is ready to be incorporated into the seat. It is the maintenance organization's or airline operator's responsibility to ensure that the correct placard is located on the seat. For actuators on which the relevant P/N or S/N is not visible, Airbus OIT SE 999.0040/05/FB provides service information for inspecting the seats. As stated above, reference to this OIT is now included in Note 1 of the AD.

Request To Include Additional Work Hours

JetBlue requests that we take into account the work that would be required to comply with the AD once the actual affected motor actuator has been identified by boroscope probe visual inspection. JetBlue points out that the visual inspection portion by itself will take only one hour per seat assembly, as shown in the Costs of Compliance section of the NPRM. However, JetBlue states that once the defective motor actuator has been identified, it will take more hours to complete the required tasks. JetBlue states that the AD should have realistic information about the time required per airplane. This information is approximately four hours with two mechanics, or 16 work hours per airplane, as specified in Sogerma-Services Service Bulletin TAAI1-25-617.

JetBlue also states that the NPRM does not mention that the manufacturer is offering the replacement compliant motor/actuators free of charge. JetBlue states that this information might provide incentive to operators to perform the initial inspections and any necessary replacement sooner rather than later.

ATA, on behalf of Northwest Airlines, also states that the costs quoted in the NPRM need to match those of the referenced service bulletin. Northwest Airlines points out that Airbus Service Bulletins A320-25-1430, dated May 31, 2005, and A320-25-3270, dated May 4, 2005, specify 1.5 hours for doing the same inspection that is detailed in the costs of compliance of the NPRM.

We partially agree. We disagree that is necessary to increase the work hours required to do the inspections. The costs of compliance that are discussed in AD rulemaking actions represent only the time necessary to perform the specific actions actually required by the AD. In this case, the only action required by the AD for all airplanes is the inspection to determine if an affected actuator is installed. The costs of compliance also typically do not include incidental costs, such as the time required to gain access and close up, planning time, or time necessitated by other administrative actions.

We agree with including the costs to do the replacement once a defective actuator is identified. We also note that the manufacturer states that it will supply required parts to the operators at no cost. We have revised the Costs of Compliance section accordingly.

Request To Correct Addresses

Sogerma/Barfield requests that we correct the addresses for Sogerma-Services and for Messier-Bugatti, which were given incorrectly in the NPRM.

We agree, and have corrected the addresses as requested.

Clarification of Reporting Requirement

Although Sogerma-Services Service Bulletin TAAI1-25-617, dated February 1, 2005, specifies sending certain information to the manufacturer, this AD does not require that action. We have added a new paragraph (h) to the AD to clarify that the report is not required.

Explanation of Changes to Applicability of This AD

We have revised the applicability statement to include the word “not” in the following phrase, “on which the actuator has not been replaced .* * * ” This change matches the effectivity of French airworthiness directive F-2005-164. Adding the word “not” does not expand the applicability of the AD.

We have also revised paragraphs (c)(5) and (c)(7) of the applicability statement of this AD to include Airbus Model A321-111, -112, and 131 airplanes, and Model A330-302 and -303 airplanes. These airplane models are covered in the applicability of French airworthiness directive F-2005-164. None of these models are on the U.S. register.

Conclusion

We have carefully reviewed the available data, including the comments received, and determined that air safety and the public interest require adopting the AD with the changes described previously. We have determined that these changes will neither increase the economic burden on any operator nor increase the scope of the AD.

Costs of Compliance

This AD affects about 743 airplanes of U.S. registry. The inspection takes about 1 work hour per airplane, at an average labor rate of $65 per work hour. Based on these figures, the estimated cost of the inspection for U.S. operators is $48,295, or $65 per airplane.

The replacement takes about 8 work hours per seat per airplane, for a potential total of 16 work hours per airplane, depending on the number of actuators identified, at an average labor rate of $65 per work hour. The manufacturer states that it will supply required parts to the operators at no cost. Based on these figures, the estimated cost of the replacement for U.S. operators is between $386,360 and $772,720, or between $520 and $1,040 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-22-04 Airbus: Amendment 39-14801. Docket No. FAA-2006-23633; Directorate Identifier 2005-NM-242-AD.

Effective Date

(a) This AD becomes effective December 4, 2006.

Affected ADs

(b) None.

Applicability

(c) This AD applies to the airplanes identified in Table 1 of this AD, certificated in any category; equipped with any Sogerma-Services pilot or co-pilot seat identified in Sogerma-Services Service Bulletin TAAI1-25-617, dated February 1, 2005, excluding any seat having part number (P/N) TAAI3-03PE00-01, TAAI3-03PE01-01, TAAI3-03CE00-01, and TAAI3-03CE01-01, with a serial number (S/N) higher than 791, on which the actuator has not been replaced after the date of issuance of the original standard airworthiness certificate or date of issuance of the original export certificate of airworthiness.

Table 1.—Applicability
Airbus model
(1) A318-111 and -112 airplanes.
(2) A319-111, -112, -113, -114, -115, -131, -132, and -133 airplanes.
(3) A320-111 airplanes.
(4) A320-211, -212, -214, -231, -232, and -233 airplanes.
(5) A321-111, -112, -131, -211 and -231 airplanes.
(6) A330-201, -202, -203, -223, and -243 airplanes.
(7) A330-301, -302, -303, -321, -322, -323, -341, -342, and -343 airplanes.
(8) A340-211, -212, and -213 airplanes.
(9) A340-311, -312, and -313 airplanes.
(10) A340-541 airplanes.
(11) A340-642 airplanes.

Unsafe Condition

(d) This AD results from a report of heavy wear at the driving gear of the rotor shaft end of the electrical driven motor on certain actuators of the pilot's and co-pilot's seats. We are issuing this AD to prevent uncommanded movement of the pilot's or co-pilot's seat during takeoff or landing, which could result in interference with the operation of the airplane and consequent temporary loss of airplane control.

Compliance

(e) You are responsible for having the actions required by this AD performed within the compliance times specified, unless the actions have already been done.

Inspection for the P/N of the Actuator

(f) Within 56 months after the effective date of this AD, inspect to determine if an actuator identified in Table 2 of this AD is installed in the pilot's or co-pilot's seat, in accordance with Part 1, Paragraph D., “DESCRIPTION,” of Sogerma-Services Service Bulletin TAAI1-25-617, dated February 1, 2005. If any actuator identified in Table 2 of this AD is found installed, within 56 months after the effective date of this AD, do the applicable corrective actions in accordance with Paragraph D., “DESCRIPTION,” of the service bulletin.

Table 2.—Affected Actuators
Manufacturer | Actuator P/N
(1) Messier-Bugatti | 4136290004, S/Ns 5079 and below.
(2) Messier-Bugatti | 4136290005, S/Ns 5079 and below.

Note 1: Sogerma-Services Service Information Letter SIL-TAAI1-25-059, dated February 8, 2005, and Airbus Operator Information Telex SE 999.0040/05/FB, dated May 27, 2005, are additional sources of service information for inspecting the seats.

Concurrent Replacements

(g) For Messier-Bugatti actuators identified in Table 2 of this AD: Concurrently with the applicable corrective action required by paragraph (f) of this AD, replace the rotors on both vertical and horizontal movements with new rotors, and replace the clutch cap with a new cap, in accordance with Messier-Bugatti Service Bulletin 4136290004-25-05 or 4136290005-25-02, both dated April 2005, as applicable.

No Report Required

(h) Although Sogerma-Services Service Bulletin TAAI1-25-617, dated February 1, 2005, specifies sending certain information to the manufacturer, this AD does not require that action.

Alternative Methods of Compliance (AMOCs)

(i)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(j) French airworthiness directive F-2005-164, issued September 28, 2005, also addresses the subject of this AD.

Material Incorporated by Reference

(k) You must use Messier-Bugatti Service Bulletin 4136290004-25-05, dated April 2005, or Messier-Bugatti Service Bulletin 4136290005-25-02, dated April 2005; and Sogerma-Services Service Bulletin TAAI1-25-617, dated February 1, 2005; as applicable; to perform the actions that are required by this AD, unless the AD specifies otherwise. The Director of the Federal Register approved the incorporation by reference of these documents in accordance with 5 U.S.C. 552(a) and 1 CFR part 51. Contact Sogerma-Services, Z.I. de l'Arsenal—BP 109—17303 Rochefort Cedex, France; and Messier-Bugatti, 45 Avenue Victor Hugo—Bat. 227—93538 Aubervilliers, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on October 11, 2006.
Kalene C. Yanamura,
Acting Manager, Transport Airplane Directorate, Aircraft Certification Service.

[FR Doc. E6-17662 Filed 10-27-06; 8:45 am]

BILLING CODE 4910-13-P